DEPARTMENT OF HOUSING AND URBAN DEVELOPMENT

24 CFR Part 982

[Docket No. FR-4759-C-02]

RIN 2577-AC39

Housing Choice Voucher Program Homeownership Option: Eligibility of Units Owned or Controlled by a Public Housing Agency; Correction

AGENCY: Office of the Assistant Secretary for Public and Indian Housing, HUD.

ACTION: Interim rule; correction.

SUMMARY: On October 28, 2002, HUD published an interim rule establishing the eligibility of units owned or substantially controlled by a public housing agency (PHA) for purchase under the Housing Choice Voucher Program homeownership option. The interim rule inadvertently provided an incorrect designation for the paragraph being added to the voucher program regulations. This document makes the necessary technical correction.

DATES: Effective Date: This correction is effective on November 27, 2002.

Comment Due Date: The public comment period for the October 28, 2002 interim rule is unchanged. Comments on the interim rule are due on or before December 27, 2002.

ADDRESSES: Interested persons are invited to submit comments regarding the October 28, 2002 interim rule to the Office of the Rules Docket Clerk, Office of General Counsel, Room 10276, Department of Housing and Urban Development, 451 Seventh Street, SW., Washington, DC 20410-0500. Communications should refer to the docket number and title of the interim rule. Facsimile (FAX) comments are not acceptable. A copy of each communication submitted will be available for inspection and copying between 7:30 a.m. and 5:30 p.m. at the above address.

FOR FURTHER INFORMATION CONTACT: Gerald J. Benoit, Office of Public and Indian Housing, Department of Housing and Urban Development, Room 4210, 451 Seventh Street, SW., Washington, DC 20410; telephone (202) 708-0477. (This is not a toll-free number.) Hearing-or speech-impaired individuals may access this number via TTY by calling the toll-free Federal Information Relay Service at 1-800-877-8339.

SUPPLEMENTARY INFORMATION:

I. Background

On October 28, 2002 (67 FR 65864), HUD published an interim rule establishing the eligibility of units owned or substantially controlled by a public housing agency (PHA) for purchase under the Housing Choice Voucher Program homeownership option. The interim rule, which will become effective on November 27, 2002, inadvertently provided an incorrect designation for the paragraph being added to the voucher program regulations. Specifically, the interim rule provides that a new paragraph (c) is being added to § 982.628. The correct designation is § 982.628(d). This document makes the necessary technical correction to the October 28, 2002 interim rule.

PART 982—[CORRECTED]

Accordingly, the interim rule FR Doc. 02-27310, published on October 28, 2002, (67 FR 65864) is corrected as follows:

1. On page 65865, in the third column, correct amendatory instruction 2. and the paragraph heading to read as follows:

2. Add § 982.628(d) to read as follows:

§ 982. 628 Homeownership option: Eligible units.

* * * * *

(d) PHA-owned units. * * *

* * * * *

Dated: October 31, 2002.
Aaron Santa Anna,
Assistant General Counsel for Regulations.

[FR Doc. 02-28128 Filed 11-5-02; 8:45 am]

BILLING CODE 4210-33-P